DEPARTMENT OF THE INTERIOR

National Park Service

[NPS-WASO-NAGPRA-13620; PPWOCRADN0-PCU00RP14.R50000]

Notice of Intent To Repatriate Cultural Items: Washington State Parks and Recreation Commission, Olympia, WA

AGENCY: National Park Service, Interior.

ACTION: Notice.

SUMMARY: The Washington State Parks and Recreation Commission, in consultation with the appropriate Indian tribes or Native Hawaiian organizations, has determined that the cultural items listed in this notice meet the definition of unassociated funerary objects. Lineal descendants or representatives of any Indian tribe or Native Hawaiian organization not identified in this notice that wish to claim these cultural items should submit a written request to the Washington State Parks and Recreation Commission. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Washington State Parks and Recreation Commission at the address in this notice by September 16, 2013.

ADDRESSES: Alicia Woods, Washington State Parks and Recreation Commission, PO Box 42650, Olympia, WA 98504-2650, telephone (360) 902-0939, email Alicia.Woods@parks.wa.gov.

SUPPLEMENTARY INFORMATION: Notice is here given in accordance with the Native American Graves Protection and Repatriation Act (NAGPRA), 25 U.S.C. 3005, of the intent to repatriate cultural items under the control of the Washington State Parks and Recreation Commission, Olympia, WA that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1950 and 1953, 29 cultural items were removed from the site 45-SP-5 in Spokane County, WA, by Louis R. Caywood with the National Park Service and under a contract with the Washington State Parks and Recreation Commission. At the time of removal, the Washington State Parks and Recreation Commission signed a Memorandum of Agreement releasing custody and control over all excavated material from the site to the Eastern Washington State Historical Society (EWSHS), now known as the Northwest Museum of Arts and Culture. In 1989, the EWSHS de-accessioned the objects, and transferred them to the Washington State Parks and Recreation Commission. The funerary objects listed in this notice were identified in 2005, and were transferred to the Washington State Parks and Recreation Commission headquarters in Olympia, WA. The 29 unassociated funerary objects are 7 pieces of stone and shell; 20 whole and fragmented perforated faunal teeth; 1 perforated seed; and 1 ornamental rifle side plate.

Between 1962 and 1963, nine cultural items were removed from site 45-SP-5 in Spokane County, WA, by John D. Combes with Washington State University (WSU) and under a contract with the Washington State Parks and Recreation Commission. These objects originate from two identified burials and were excavated at the same time as the corresponding human remains, although the human remains are not present in the collection. At the time of removal, the Washington State Parks and Recreation Commission released custody and control over all excavated material to WSU. It is not known when the Washington State Parks and Recreation Commission took custody of the unassociated funerary objects from this site. The funerary objects listed in this notice were identified in 2006, and were transferred to the Washington State Parks and Recreation Commission headquarters in Olympia, WA. The 9 unassociated funerary objects are 1 hammerstone; 2 modified shells; 2 stone tools; 2 stone flakes; and 2 shell fragments.

The site is a burial ground that dates from before 1812 to approximately 1885. Based on the material recovered from a small percentage of the overall number of burials, it would appear the burials are associated with the “immediate pre-contact, fur trade, or post-fur trade periods” (Luttrell, 2011). These dates are supported by first-person accounts of the types and styles of burials during and following the fur trade era (Cox, 1957; Luttrell, 2011; Williams, 1922). All 38 unassociated funerary objects came from the burial ground at site 45-SP-5 and specifically from graves of people who were of Native American ancestry.

The Washington State Parks and Recreation Commission staff has determined there is a relationship of shared group identity between the unassociated funerary objects and the modern day tribes of the Coeur d'Alene Tribe (previously listed as the Coeur d'Alene Tribe of the Coeur d'Alene Reservation, Idaho); Kalispel Indian Community of the Kalispel Reservation; and the Spokane Tribe of the Spokane Reservation. This determination is based on ethnographic evidence that the Upper and Middle Spokane people predominantly resided in the area and utilized the resources of this site in the pre- and post-contact period. Connections between the three groups included intermarriage between the Spokane and Kalispel people and the Spokane and Coeur d'Alene people as well as shared linguistic heritage, overlapping trade networks, battle alliances, shared resource protection, cooperative hunting parties, and shared burial practices (especially between the Spokane and Kalispel peoples) (Fahey, 1986; Luttrell, 2011; Ruby and Brown, 1970 & 1981; Walker, 1998). Additionally, during consultation with the Spokane Tribe, representatives stated the site is a part of their people's traditional territory, and the burial ground is a sacred place of their people.

Determinations Made by the Washington State Parks and Recreation Commission

Officials of the Washington State Parks and Recreation Commission have determined that:

• Pursuant to 25 U.S.C. 3001(3)(B), the 38 unassociated funerary objects described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Coeur d'Alene Tribe (previously listed as the Coeur d'Alene Tribe of the Coeur d'Alene Reservation, Idaho); Kalispel Indian Community of the Kalispel Reservation; and the Spokane Tribe of the Spokane Reservation.

Additional Requestors and Disposition

Lineal descendants or representatives of any Indian tribe or Native Hawaiian organization not identified in this notice that wish to claim these cultural items should submit a written request with information in support of the claim to Alicia Woods, Washington State Parks and Recreation Commission, PO Box 42650, Olympia, WA 98504-2650, telephone (360) 902.0939, email Alicia.Woods@parks.wa.gov, by September 16, 2013. After that date, if no additional claimants have come forward, transfer of control of the unassociated funerary objects to the Coeur d'Alene Tribe (previously listed as the Coeur d'Alene Tribe of the Coeur d'Alene Reservation, Idaho); Kalispel Indian Community of the Kalispel Reservation; and the Spokane Tribe of the Spokane Reservation may proceed.

The Washington State Parks and Recreation Commission is responsible for notifying the Coeur d'Alene Tribe (previously listed as the Coeur d'Alene Tribe of the Coeur d'Alene Reservation, Idaho); Kalispel Indian Community of the Kalispel Reservation; and the Spokane Tribe of the Spokane Reservation that this notice has been published.

Dated: July 24, 2013.
Sherry Hutt,
Manager, National NAGPRA Program.

[FR Doc. 2013-20044 Filed 8-15-13; 8:45 am]

BILLING CODE 4312-50-P